NEIGHBORHOOD REINVESTMENT CORPORATION

Sunshine Act Meetings

TIME AND DATE: 4:00 p.m., Wednesday, November 29, 2023.

PLACE: 1255 Union Street NW, Suite 500, Washington, DC 20002.

STATUS: Part of this meeting will be open to the public. The rest of this meeting will be closed to the public.

MATTERS TO BE CONSIDERED: Audit Committee Board of Directors meeting.

The Interim General Counsel of the Corporation has certified that in her opinion, one or more of the exemptions set forth in the Government in the Sunshine Act, 5 U.S.C. 552b(c)(2) permit the closure of the following portion(s) of this meeting:

• Executive (Closed) Session

Agenda

I. Call to Order

II. Sunshine Act Approval to Meet in Executive (Closed) Session

III. Executive Session: GAO Workplan Update

IV. Executive Session: Chief Audit Executive Report

V. Action Item: Deferred Internal Audit Projects from FY2023 Internal Audit Plan

VI. Action Item: FY2024 Internal Audit Plan and Risk Assessment

VII. Action Item: Removal and Replacement of Conformance Language

VIII. Discussion Item: Network Watchlist Report

IX. Discussion Item: Internal Audit Status Reports

a. Internal Audit Performance Scorecard

b. Implementation of Internal Audit Recommendations

c. Officer's Report

d. Quality Assurance Improvement Policy

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2023-24975 Filed 11-7-23; 4:15 pm]

BILLING CODE P